FEDERAL COMMUNICATIONS COMMISSION

47 CFR Part 73

[DA 03-1531, MB Docket No. 02-81, RM-10422]

Digital Television Broadcast Service; Bethlehem, PA

AGENCY: Federal Communications Commission.

ACTION: Correcting amendment.

SUMMARY: The Federal Communications Commission published in the Federal Register of March 6, 2003 (68 FR 10664), a document (DA 03-491) to change the DTV Table of Allotments to reflect the substitution of DTV channel 9 for DTV channel 59c at Bethlehem. However, DTV channel 59 was inadvertently published without the “c” designation. This document corrects that amendment contained in section 73.622(b) of the Commission's Rules.

DATES: Effective April 14, 2003.

FOR FURTHER INFORMATION CONTACT: Pam Blumenthal, Media Bureau, (202) 418-1600.

SUPPLEMENTARY INFORMATION:

Background

The FCC published a document in the Federal Register of March 6, 2003, (68 FR 10664) removing DTV channel 59 and adding DTV channel 9 at Bethlehem, Pennsylvania. DTV channel 59 was inadvertently published in lieu of DTV channel 59c. This correction removes DTV channel 59c in lieu DTV channel 59 at Bethlehem.

Need for Correction

As published, the final regulations contain an error, which may prove to be misleading, and needs to be clarified.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ §73.622 [Amended]

2. Section 73.622(b), the Table of Digital Television Allotments under Pennsylvania, is amended by removing DTV channel 59c at Bethlehem.

Federal Communications Commission.
Barbara A. Kreisman,
Chief, Video Division, Media Bureau.

[FR Doc. 03-12543 Filed 5-19-03; 8:45 am]

BILLING CODE 6712-01-P